DEPARTMENT OF HOMELAND SECURITY

Transportation Security Administration

Revision of Agency Information Collection Activity Under OMB Review: Baseline Assessment for Security Enhancement (BASE) Program

AGENCY: Transportation Security Administration, Homeland Security (DHS).

ACTION: 30-Day notice.

SUMMARY: This notice announces that the Transportation Security Administration (TSA) has forwarded the Information Collection Request (ICR), Office of Management and Budget (OMB) control number 1652-0062, abstracted below, to OMB for review and approval of a revision to the currently approved collection under the Paperwork Reduction Act (PRA). The ICR describes the nature of the information collection and its expected burden. The collection allows TSA to conduct transportation security-related assessments during site visits with surface transportation security and operating officials.

DATES: Send your comments by September 27, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on June 4, 2021, 86 FR 30065.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Baseline Assessment for Security Enhancement (BASE) Program.

Type of Request: Revision of a currently approved collection.

OMB Control Number: 1652-0062.

Form(s): BASE electronic checklist.

Affected Public: Highway transportation asset owners and operators; and, public transportation agencies, including mass transit bus, rail transit, and less common types of service (such as cable cars, inclined planes, funiculars, and automated guideway systems).

Abstract: TSA's BASE program works with existing (and new) transportation asset and system owner/operators by asking established questions to identify their current security posture, identify security gaps, and encourage implementation of countermeasures applicable to the specific surface mode of transportation. Data and results collected through the BASE program will inform TSA's policy and program initiatives and allow TSA to provide focused resources and tools to enhance the overall security posture within these sectors of the surface transportation community.

The Government Accountability Office, audit GAO-20-404, “Passenger Rail Security: TSA Engages with Stakeholders but Could Better Identify and Share Standards and Key Practices (April 2020),” recommended TSA update the BASE cybersecurity questions to ensure they reflect key practices.¹ TSA concurred with this recommendation and is requesting to revise the collection to include questions that cover all five core functions of the National Institute of Standards and Technology cybersecurity framework. All core functions and a majority of the subcategories are integrated with Cybersecurity and Infrastructure Security Agency guidelines and established industry best practices in the newly-developed cybersecurity questions and cybersecurity annex questions, strengthening the cybersecurity health for the transportation sector.

¹ Additional information regarding this audit and the GAO's recommendations are available on the GAO's website using the audit number (GAO-20-0404) or at the following link: https://www.gao.gov/products/gao-20-404.

Number of Respondents: 182.

Estimated Annual Burden Hours: 1,698 hours annually.²

² The annual burden has decreased since the publication of the 60-day notice, which reported 1,708 annual hour burden (MT/PR BASE 1,196 hours annually + HWY BASE 512 hours annually).

Dated: August 20, 2021.
Christina A. Walsh,
TSA Paperwork Reduction Act Officer, Information Technology.

[FR Doc. 2021-18358 Filed 8-25-21; 8:45 am]

BILLING CODE 9110-05-P